DEPARTMENT OF THE INTERIOR

Office of the Secretary

[245D0102DM. DS62400000. DLSN00000.000000. DX62401; OMB Control Number 1084-0034]

Agency Information Collection Activities; Documenting, Managing, and Preserving Department of the Interior Museum Collections Housed in Non-Federal Repositories

AGENCY: Office of Acquisition and Property Management, Interior.

ACTION: Notice of information collection; request for comment.

SUMMARY: In accordance with the Paperwork Reduction Act of 1995, we, the Office of Acquisition and Property Management, Office of the Secretary, Department of the Interior are proposing to renew an information collection with revisions.

DATES: Interested persons are invited to submit comments on or before October 7, 2024.

ADDRESSES: Written comments and recommendations for the proposed information collection should be sent within 30 days of publication of this notice to www.reginfo.gov/public/do/PRAMain. Find this particular information collection by selecting “Currently under Review—Open for Public Comments” or by using the search function. Please provide a copy of your comments to Rochelle Bennett, Office of Acquisition and Property Management, Department of the Interior, 1849 C Street NW, MS 4262-MIB, Washington, DC 20240; or by email to Rochelle_Bennett@ios.doi.gov. Please reference OMB Control Number 1084-0034 in the subject line of your comments.

FOR FURTHER INFORMATION CONTACT: To request additional information about this ICR, contact Rochelle Bennett by email at Rochelle_Bennett@ios.doi.gov, or by telephone at 202-513-7564. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on May, 10, 2024 (89 FR 40502). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Department of the Interior (DOI) manages an estimated 75 million museum objects and over 92 thousand linear feet of archives in trust for the American public. This diverse collection consists of archaeological artifacts, archives, biological specimens, ethnographic objects, fine arts, geological specimens, historic objects, and paleontological specimens owned and managed by DOI bureaus and offices (bureaus). Although the majority of DOI museum collections are housed in DOI bureau facilities, at least 10 percent are located at more than 1,000 non-Federal repositories, primarily state and tribal institutions, museums, and university departments. Most of DOI museum collections housed in non-Federal repositories resulted from projects on Federal lands, and include objects from the disciplines of archaeology, biology, geology, and paleontology, as well as associated project documentation (archives or associated records).This information collection request is directed to these non-Federal repositories that house DOI museum collections.

DOI museum collections cared for in non-Federal repositories are established as Federal property under Federal law. Permits and other agreements for the collection of artifacts and specimens from public lands managed by DOI further affirm Federal ownership. Federal regulations and DOI policy require that all permittees (authorized individuals) conducting research or performing compliance activities on DOI-managed lands must ensure that any retained museum objects and archives collected or generated during a project are: (1) accessioned and cataloged according to DOI standards in the Interior Collection Management System (ICMS), its successor the Museum Collection Management System (MCMS), or another collection management system from which the necessary data can be imported into ICMS or MCMS; and (2) housed in an appropriate museum repository that meets professional and DOI museum standards. These requirements help to establish and maintain accountability, as well as ensure the collections' long-term preservation, protection, and availability for access and use.

Upon request by DOI bureaus, voluntary submittal of the information identified below from non-Federal repositories supports DOI's management of its museum collections, as well as compliance with the Native American Graves Protection and Repatriation Act (NAGPRA) where applicable. DOI bureaus may request information within the following categories:

(1) Museum records created to manage DOI museum collections, such as accession, catalog, inventory, loan, and deaccession records, and backups of collection management systems or other software/programs. (REVISED)

(2) Associated records/archives generated by the activity of collecting and analyzing DOI museum collections. (NEW)

(3) Access and use of DOI museum collections, such as use requests, analyses, physical and virtual exhibits, online catalogs and finding aids, presentations, and publications resulting from use. (NEW)

(4) Objects newly identified as under DOI ownership and possible Native American Graves Protection and Repatriation Act (NAGPRA) human remains or cultural items in DOI museum collections. (NEW)

(5) Improved management and care recommendations, including considerations for Duty of Care requirements consistent with NAGPRA. (NEW)

(6) Reports of damaged, deteriorated, missing, or stolen objects. (NEW)

(7) Core management and planning documents, such as scope of collection statement, emergency management, integrated pest management, security, and housekeeping plans. (NEW)

(8) Partnerships, funding, or commercial sponsorships that may involve DOI museum collections. (NEW)

(9) Facility Checklist for Spaces Housing DOI Museum Property (Checklist) to capture current environmental, security, and other management controls in place to document and safeguard DOI museum collections and provide recommendations for improvements. (EXISTING)

(10) Input on Collections from Lands Administered by the U.S. Department of the Interior that are Located at Non-Federal Facilities (Input Form) to query a limited range of information about the repository, scope and types of DOI museum collections in the repository, DOI bureaus with which the collections are associated, status of documentation and NAGPRA compliance, and availability of objects and archives for research and other uses. (EXISTING)

The expanded categories of information identified above provide a more accurate representation of the information that DOI bureaus may ask non-Federal repositories to voluntarily provide on DOI museum collections. The proposed changes in this information collection request also include elimination of the three instruction sheets for accession, catalog, and inventory information included in previous iterations, as that information is captured in a revised category identified above.

Title of Collection: Documenting, Managing, and Preserving Department of the Interior Museum Collections Housed in Non-Federal Repositories.

OMB Control Number: 1084-0034.

Form Number: None.

Type of Review: Revision of a currently approved collection.

Respondents/Affected Public: Museums; academic, cultural, and research institutions; and state, tribal, and local agencies and institutions.

Total Estimated Number of Annual Respondents: 425.

Total Estimated Number of Annual Responses: 425.

Estimated Completion Time per Response: Varies from 3 to 34 hours, depending on activity.

Total Estimated Number of Annual Burden Hours: 8,475.

Respondent's Obligation: Voluntary.

Frequency of Collection: Maximum of once per year per collection instrument, and likely less frequently.

Total Estimated Annual Nonhour Burden Cost: None.

An agency may not conduct or sponsor and a person is not required to respond to a collection of information unless it displays a currently valid OMB control number.

The authority for this action is the Paperwork Reduction Act of 1995 (44 U.S.C. 3501 et seq.).

Megan Olsen,
Director, Office of Acquisition and Property Management.

[FR Doc. 2024-19858 Filed 9-4-24; 8:45 am]

BILLING CODE 4334-63-P